NUCLEAR REGULATORY COMMISSION

Sunshine Act Meeting

AGENCY HOLDING THE MEETING: Nuclear Regulatory Commission.

DATE: Week of August 16, 2004.

PLACE: Commissioners' Conference Room, 11555 Rockville Pike, Rockville, Maryland.

STATUS: Public and closed.

ADDITIONAL MATTER TO BE CONSIDERED:

Week of August 16, 2004

Tuesday, August 17, 2004

9:25 a.m. Affirmative Session (Public Meeting)

a. Private Fuel Storage (Independent Spent Fuel Storage Installation) Docket No. 72-22-ISFSI;

b. Final Rule: Medical Use of Byproduct Material—Minor Amendments: Extending Expiration Date for Subpart J of Part 35;

c. FirstEnergy Nuclear Operating Co. (Davis-Besse Nuclear Power Station, Unit 1); Petitioners' Appeal of LBP-04-11.

*The schedule of Commission meeting is subject to change on short notice. To verify the status of meetings call (recording) (301) 415-1292. Contract person for more information: Dave Gamberoni, (301) 415-1651.

* * * * *

ADDITIONAL INFORMATION: By a vote of 3-0 on August 16, the Commission determined pursuant to U.S.C. 552b(e) and 9.107(a) of the Commission's rules that “Affirmation of FirstEnergy Nuclear Operating Co. (Davis-Besse Nuclear Power Station, Unit 1); Petitioners' Appeal of LBP-04-11” be held August 17, and on less than one week's notice to the public.

* * * * *

The NRC Commission Meeting Schedule can be found on the Internet at: http://www.nrc.gov/what-we-do/policy-making/schedule.html.

* * * * *

The NRC provides reasonable accommodation to individuals with disabilities where appropriate. If you need a reasonable accommodation to participate in these public meetings, or need this meeting notice or the transcript or other information from the public meetings in another format (e.g. braille, large print), please notify the NRC's Disability Program Coordinator, August Spector, at (301) 415-7080, TDD: (301) 415-2100, or by e-mail at aks@nrc.gov. Determinations on requests for reasonable accommodation will be made on a case-by-case basis.

* * * * *

This notice is distributed by mail to several hundred subscribers; if you no longer wish to receive it, or would like to be added to the distribution, please contact the Office of the Secretary, Washington, DC 20555 (301) 415-1969. In addition, distribution of this meeting notice over the Internet system is available. If you are interested in receiving this Commission meeting schedule electronically, please send an electronic message to dkw@nrc.gov.

Dated: August 17, 2004.
Dave Gamberoni,
Office of the Secretary.

[FR Doc. 04-19090 Filed 8-17-04; 8:45 am]

BILLING CODE 7590-01-M